COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that were furnished by nonprofit agencies employing persons who are blind or have other severe disabilities.

Comments Must Be Received on or Before: 12/3/2012.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products:

NSN: 7520-01-584-1378—Pen & Calculator Case, Rosewood

NPA: Tarrant County Association for the Blind, Fort Worth, TX

Contracting Activity: General Services Administration, New York, NY

NSN: 8115-00-NIB-0001—Container, Mailing Cassette

NSN: 8115-00-NIB-0003—Cassette, Mailing Container

NPA: L.C. Industries for the Blind, Inc., Durham, NC

Contracting Activity: Library of Congress, Fedlink Contracts, Washington, DC

NSN: 6545-00-911-1300—Blanket Set, Bed

NSN: 6545-01-168-6893—First Aid Kit, Small Craft

NSN: 6545-00-920-7125—First Aid Kit, Gun Crew

NSN: 6545-01-141-9476—Medical Equipment Set, Ground Ambulance

NSN: 6545-01-191-8972—Medical Equipment Set, Trauma, Field

NSN: 6545-01-191-8971—Medical Equipment Set, X-Ray, Field

NSN: 6545-01-191-8970—Medical Equipment Set, Laboratory, Field

NPA: Ontario County Chapter, NYSARC, Inc., Canandaigua, NY

Contracting Activity: Defense Logistics Agency Troop Support, Philadelphia, PA

Barry S. Lineback,
Director, Business Operations.

[FR Doc. 2012-26886 Filed 11-1-12; 8:45 am]

BILLING CODE 6353-01-P